DEPARTMENT OF COMMERCE

International Trade Administration

[C-201-854]

Standard Steel Welded Wire Mesh From Mexico: Postponement of Preliminary Determination in the Countervailing Duty Investigation

AGENCY: Enforcement and Compliance, International Trade Administration, Department of Commerce.

DATES: Applicable September 9, 2020.

FOR FURTHER INFORMATION CONTACT: Joshua Tucker or Ian Hamilton, AD/CVD Operations, Office II, Enforcement and Compliance, International Trade Administration, U.S. Department of Commerce, 1401 Constitution Avenue NW, Washington, DC 20230; telephone: (202) 482-2044 or (202) 482-4798, respectively.

SUPPLEMENTARY INFORMATION:

Background

On July 20, 2020, the Department of Commerce (Commerce) initiated a countervailing duty (CVD) investigation of imports of standard steel welded wire mesh from Mexico.¹ Currently, the preliminary determination is due no later than September 23, 2020.

¹ See Standard Steel Welded Wire Mesh from Mexico: Initiation of Countervailing Duty Investigation, 85 FR 45181 (July 27, 2020) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On August 28, 2020, the petitioners ³ submitted a timely request that Commerce postpone the preliminary CVD determination.⁴ The petitioners requested postponement of the preliminary determination because they stated that additional time is necessary for Commerce to conduct its investigation and permit interested parties sufficient time to develop the record in this investigation.⁵

³ The petitioners are Insteel Industries, Inc.; Mid South Wire Company; National Wire LLC; Oklahoma Steel & Wire Co.; and Wire Mesh Corp.

⁴ See Petitioners' Letter, “Countervailing Duty Investigation of Standard Steel Welded Wire Mesh from Mexico: Petitioners' Request to Postpone Preliminary Determination,” dated August 28, 2020.

⁵ Id. at 2.

In accordance with 19 CFR 351.205(e), the petitioners have stated the reasons for requesting a postponement of the preliminary determination, and Commerce finds no compelling reason to deny the request. Therefore, in accordance with section 703(c)(1)(A) of the Act, Commerce is postponing the deadline for the preliminary determination to November 27, 2020. Pursuant to section 705(a)(1) of the Act and 19 CFR 351.210(b)(1), the deadline for the final determination of this investigation will continue to be 75 days after the date of the preliminary determination.

This notice is issued and published pursuant to section 703(c)(2) of the Act and 19 CFR 351.205(f)(1).

Dated: September 2, 2020.
Jeffrey I. Kessler,
Assistant Secretary for Enforcement and Compliance.

[FR Doc. 2020-19901 Filed 9-8-20; 8:45 am]

BILLING CODE 3510-DS-P